DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee and Population Health Subcommittee Meetings.

Dates and Times:

Monday, September 11, 2017: 9:00 a.m.-5:45 p.m.

Tuesday, September 12, 2017: 8:30 a.m.-5:00 p.m.

Wednesday, September 13, 2017: 8:45 a.m.-5:30 p.m.

Thursday, September 14, 2017: 8:30 a.m.-3:15 p.m.

Place: U.S. Department of Health and Human Services, Hubert H. Humphrey Building, 200 Independence Avenue SW., Room 705A, Washington, DC 20201.

Status: Open.

Purpose: At the September 11-12, 2017 hearing, the Population Health Subcommittee will focus on Next Generation Vital Statistics. The purpose of the hearing is to assess the current state of the national vital statistics system (NVSS) to address concerns regarding sustainability and viability of the system infrastructure. The focus will be on the system's capacity to provide timely, high quality, secure vital administrative and statistical data for identity establishment and protection, identification of trends in disease and epidemics, e.g., the recent surge in opioid-related deaths, and a host of critical uses for research, finance, planning, public records and services.

At the September 13-14, 2017 full meeting, the Committee will hear presentations, hold discussions on several health data policy topics and begin to formulate its work plan for 2018. To inform the work plan, the Committee will be briefed by the Commission on Evidence-based Policymaking (CEP) regarding the release of its report and recommendations as well as hear from HHS leadership regarding data needs and gaps. A panel will be held to discuss the new topic “Beyond HIPAA,” an exploration of challenges that extend beyond HIPAA and the range of policy options that may be available to the Department related to privacy, security and access measures to protect individually identifiable health information in an environment of electronic networking and multiple uses of data. Additional discussions are planned on the Predictability Roadmap project in follow up to a Standards Subcommittee workshop focused on possible approaches to improve the predictability and improvements in the adoption and processes related to updating standards and operating rules for electronic administrative transactions (e.g. claims, eligibility, electronic funds transfer); and on terminology & vocabulary development, maintenance, and dissemination processes. The Committee also plans to finalize the update to its strategic plan and selection criteria for undertaking new Committee projects. The times and topics are subject to change. Please refer to the posted agenda for any updates.

Contact person for more information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS Web site: http://www.ncvhs.hhs.gov/, where further information including an agenda and instructions to access the audio broadcast of the meetings will also be posted. Should you require reasonable accommodation, please contact the CDC Office of Equal Employment Opportunity on (770) 488-3210 as soon as possible.

Dated: July 25, 2017.
Laina Bush,
Deputy Assistant Secretary for Planning and Evaluation, Office of the Assistant Secretary for Planning and Evaluation.

[FR Doc. 2017-16036 Filed 7-28-17; 8:45 am]

BILLING CODE 4151-05-P